GENERAL SERVICES ADMINISTRATION

2010 Travel and Relocation Excellence Award

AGENCY: Office of Governmentwide Policy, General Services Administration (GSA).

ACTION: Notice.

SUMMARY: The General Services Administration (GSA) is seeking candidates for the biennial 2010 Travel and Relocation Excellence Award, which honors excellence in federal travel and relocation policy.

FOR FURTHER INFORMATION CONTACT: Go to GSA's 2010 Travel and Relocation Excellence Award at http://www.gsa.gov/travelrelocationaward or contact Jane Groat, Travel Management Policy, Office of Travel, Transportation, and Asset Management (MT), General Services Administration, Washington, DC 20405, (202) 501-4318, jane.groat@gsa.gov.

SUPPLEMENTARY INFORMATION: The Federal Travel Regulation is contained in Title 41 Code of the Federal Regulations (41 CFR Chapters 300 through 304), and implements statutory requirements and Executive branch policies for travel and relocation by Federal civilian employees and others authorized to travel and relocate at Government expense.

GSA announces an award to recognize and honor excellence in Federal travel and relocation. This award, available to all Federal employees, will honor individuals and/or teams. Winners of the award will be publicly announced and presented at the National Travel Forum (June 29-July 1, 2010, Orlando, FL, http://www2.nbta.org/ntf). Entries must be received no later than March 31, 2010.

Patrick O'Grady,
Acting Director, Travel Management Policy.

[FR Doc. 2010-1862 Filed 1-28-10; 8:45 am]

BILLING CODE 6820-14-P